DEPARTMENT OF ENERGY

Federal Energy Regulatory Commission

[Docket No. PR04-3-000]

Enbridge Pipelines L.L.C.; Notice of Petition for a Rate Approval

November 20, 2003.

Take notice that on November 12, 2003, Enbridge Pipelines (Alabama Intrastate) L.L.C. (formerly Magnolia Pipeline Corporation), filed a petition for rate approval pursuant to section 311 of the Natural Gas Policy Act (NGPA) and § 284.123(b)(2) of the Commission's Regulations requesting that the Commission approve Alabama Intrastate's continued use of its current maximum rate of $0.1621 per Dth, plus reimbursement of actual fuel use up to three percent, for Section 311 interruptible transportation services.

Alabama Intrastate states that even if it were able to collect its current maximum rates, it would not recover its total cost of service because its throughput is significantly lower than that used in the design of its current rate. Further, Alabama Intrastate states that current market conditions do not allow it to collect its current maximum rate, therefore, it is seeking only to re-justify such rate. Alabama Intrastate proposes an effective date of November 13, 2003, while reserving the right to increase such rate in the future.

Any person desiring to participate in this rate proceeding must file a motion to intervene or protest with the Federal Energy Regulatory Commission, 888 First Street, NE., Washington DC 20426, in accordance with § 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “eLibrary” link. Enter the docket number excluding the last three digits into the docket number field to access the document. For assistance, call (202) 502-8222 or for TTY, (202) 502-8659. Comments, protests and interventions may be filed electronically via the Internet in lieu of paper. The Commission strongly encourages electronic filings. See, 18 CFR 385.200(a)(1)(iii) and the instructions on the Commission's Web site under the “eFiling” link.

Comment Date: December 5, 2003.

Magalie R. Salas,
Secretary.

[FR Doc. E3-00407 Filed 11-28-03; 8:45 am]

BILLING CODE 6717-01-P